FEDERAL COMMUNICATIONS COMMISSION

47 CFR Part 73

[DA 00-1324; MM Docket No. 99-349; RM-9766]

Radio Broadcasting Services; Hemet, CA

AGENCY: Federal Communications Commission.

ACTION: Final rule.

SUMMARY: This document allots Channel 273A to Hemet, California, as that community's second local FM transmission service, in response to a petition for rule making filed on behalf of Arana Productions. See 64 FR 73463, December 30, 1999. Coordinates used for Channel 273A at Hemet, California, are 33-44-41 NL and 116-59-13 WL. As Hemet is located within 320 kilometers (199 miles) of the U.S.-Mexico border, concurrence of the Mexican government was requested but has not been received. As the allotment complies with the terms of the 1992 USA-Mexico FM Broadcast Agreement (”Agreement”), Channel 273A has been allotted to Hemet with an interim operating condition which may be removed once an official response from the Mexican government has been obtained.

DATES: Effective July 31, 2000. A filing window for Channel 273A at Hemet, California, will not be opened at this time. Instead, the issue of opening a filing window for this channel will be addressed by the Commission in a subsequent Order.

FOR FURTHER INFORMATION CONTACT: Nancy Joyner, Mass Media Bureau, (202) 418-2180. Questions related to the application filing process for Channel 273A at Hemet, California, should be addressed to the Audio Services Division, (202) 418-2700.

SUPPLEMENTARY INFORMATION: This is a synopsis of the Commission's Report and Order, MM Docket No. 99-349, adopted June 7, 2000, and released June 16, 2000. The full text of this Commission decision is available for inspection and copying during normal business hours in the FCC's Reference Information Center (Room CY-A257), 445 Twelfth Street, SW., Washington, DC. The complete text of this decision may also be purchased from the Commission's copy contractor, International Transcription Service, Inc., 1231 20th Street, NW., Washington, DC 20036, (202) 857-3800.

List of Subjects in 47 CFR Part 73

Radio broadcasting.

Part 73 of title 47 of the Code of Federal Regulations is amended as follows:

PART 73—[AMENDED]

1. The authority citation for part 73 continues to read as follows:

Authority: 47 U.S.C. 154, 303, 334, 336.

§ 73.202 [Amended]

2. Section 73.202(b), the Table of FM Allotments under California, is amended by adding Channel 273A at Hemet.

Federal Communications Commission.
John A. Karousos,
Chief, Allocations Branch, Policy and Rules Division, Mass Media Bureau.

[FR Doc. 00-18293 Filed 7-19-00; 8:45 am]

BILLING CODE 6712-01-P